DEPARTMENT OF COMMERCE

International Trade Administration

Renewable Energy and Energy Efficiency Trade Policy Mission to Chile

AGENCY: International Trade Administration, Commerce.

ACTION: Notice.

Mission Description:

The U.S. Department of Commerce's International Trade Administration (ITA) is organizing a Renewable Energy and Energy Efficiency (RE&EE) Trade Policy Mission to Santiago, Chile from April 15-16, 2013. The mission is designed to be led by a senior Department of Commerce official, and will focus on: (1) Creating a policy environment conducive to growth in Chile's RE&EE market; and (2) introducing U.S. RE&EE exporters to key Chilean Government officials. Mission participants will also be invited to showcase their U.S.-made RE&EE technologies at an important industry-specific trade show following the trade policy mission at their own expense.

The RE&EE trade policy mission will promote the competitiveness of U.S. wind, solar, geothermal, biomass, hydropower, waste-to-energy, smart grid, and energy efficiency exporters in a key emerging market and demonstrate U.S. Government support for Chile's renewable energy goals. The mission supports ITA's commitments contained in the Renewable Energy and Energy Efficiency Export Initiative (RE4I), which aims to significantly increase U.S. RE&EE exports by the end of 2014, the National Export Initiative time frame.

If firms decide to participate in the International Fair of Technologies (IFT) Energy 2013 trade show immediately following the trade mission (April 17-19, 2013), which is encouraged by the Department, they will be expected to register and pay for their participation in the show separately from their trade policy mission participation fees.

Commercial Setting:

Chile's fast growing economy and business friendly environment provide an attractive market for U.S. exporters. The rapidly expanding Chilean economy, which grew 6.1% in 2011, has caused a dramatic increase in the country's energy demand. Estimates indicate that Chile must install an additional 8 gigawatts (GW) of generating capacity by 2020 to meet its growing demand. Currently, Chile is dependent on imported fossil fuels for a large portion of its power generation (imported natural gas accounts for a third of the country's power capacity). As a result, energy prices have increased along with energy demand, incentivizing the development of the country's renewable energy resources. In fact, renewable energy technologies are much closer to “grid parity” in Chile than in most markets, enhancing their competitiveness.

Chile has a strong and growing energy industry. The country privatized its power sector in 1982, and today, has 70 power generation companies (4 dominant firms), five transmission operators (1 dominant), and 34 distribution companies (4 dominant). In renewable energy, Chile led Latin America in implementing a renewable energy portfolio standard (RPS). By 2011, Chilean utilities were required to produce 5% of their output from renewable energy sources; the quota increases by 0.5% annually from 2015 until 2024. Despite the RPS, renewable energy (aside from large hydropower) contributed just 2.7% of Chile's power capacity at the end of 2011. As a result, Chile must make a substantial investment in the sector to achieve its goal of 20% renewable energy capacity by 2020.

Fortunately, Chile possesses some of the world's largest potential for renewable energy. By 2011, Chile had installed only 0.198 GW of wind capacity, for example, despite an estimated potential of up to 10 GW. Likewise, Chile has developed only about half its biomass potential and has a small fraction of at least 2 GW of geothermal potential under development. Chile's solar potential is one of the largest in the world and—like other renewable energy technologies—has been largely undeveloped.

Chile's new National Energy Strategy contains six pillars: Energy efficiency; renewable energy; traditional fossil fuels; smart grid; competition in electricity distribution; and regional electricity distribution. In a speech on February 28, 2012, President Piñera announced the Government of Chile (GoC) would introduce 100 laws and administrative measures to implement the new strategy.

The mission will occur at an opportune time, as Chilean policy makers seek to establish policy to support the growth of renewable energy in their country. By facilitating high-level discussions between U.S. exporters and Chilean officials, the mission will help create a burgeoning export market for U.S. RE&EE companies, substantially increasing U.S. exports to a country whose resource potential and business environment portends significant growth for years to come.

ITA's U.S. and Foreign Commercial Service (US&FCS) at the U.S. Embassy in Santiago reports that U.S. companies are well positioned to meet export orders; and that potential policy incentives could strongly catalyze additional development. Opportunities are expected in the wind, solar, geothermal, biomass, hydropower, and energy efficiency sectors. Several U.S. firms have already made investments in Chile's renewable energy sector.

Mission Goals:

The RE&EE trade policy mission will facilitate the development of an export market by supporting the establishment of policy incentives in Chile's RE&EE market. The mission will combine the policy development and advocacy efforts of a traditional trade policy mission with networking and business outreach opportunities for participating firms.. The delegation will have a unique opportunity to meet government officials, discuss policy concerns, and suggest creative solutions to Chile's energy challenges. Several topics pertinent to the creation of a thriving renewable energy market will be addressed, including:

• Establishment of incentives to help Chile meet the goals of its National Energy Strategy;

• Development of interconnection standards and feed-in tariffs that would attract global investment and provide an incentive for development;

• Mapping of renewable energy resources;

• Strengthening of policy and regulatory cooperation between the United States and Chile; and

• Development of local financing institutions to further encourage development.

Trade policy mission participants are also encouraged to exhibit at the IFT Energy 2013 trade show immediately following the trade policy mission. Participation in IFT Energy 2013 is not mandatory and firms that exhibit will be expected to make arrangements with the conference organizer separate from their participation in the trade policy mission.

Mission Scenario:

The Renewable Energy and Energy Efficiency Trade Policy Mission will provide several opportunities for participants to discuss policy challenges with Chilean Government officials. In addition, mission participants will have an opportunity to showcase their products in a U.S. Pavilion during the IFT Energy 2013 trade show.

During the trade policy mission, participants will:

• Receive market briefings on the status of the renewable energy market in Chile, including an assessment of upcoming opportunities;

• Receive a Market Assessment Report on opportunities in Chile's renewable energy market;

• Be introduced to key Chilean government officials and decision-makers during government-to-government meetings for opportunities to discuss policies and the business environment; and

• Attend a networking reception with Chilean business persons and government officials organized by the U.S. Foreign and Commercial Service.

Proposed Timetable*
Date | Day | Activity
April 14 | Sunday Santiago, Chile | Arrive in Santiago, Chile.
April 15 | Monday Santiago, Chile | • Market briefing on RE&EE industry in Chile for mission participants by US&FCS Santiago and Embassy staff. • Meetings with key GoC officials and stakeholders.
April 16 | Tuesday Santiago, Chile | • Lunch and seminar at AmCham Chile. • Networking and exchange with key private sector contacts. • Networking reception at Ambassador's Residence. • Mission ends.
April 17 | Wednesday Santiago, Chile | • [OPTIONAL] Opportunity to attend/exhibit IFT Energy 2013.
April 18 | Thursday Santiago, Chile | • [OPTIONAL] Opportunity to attend/exhibit IFT Energy 2013.
April 19 | Friday Santiago, Chile | • [OPTIONAL] Opportunity to attend/exhibit IFT Energy 2013.
*Note: The final schedule will depend on the availability of local government and business officials, specific goals of the mission participants, and air travel schedules.

Participation Requirements:

All parties interested in participating in the trade mission must complete and submit an application package for consideration by the Department of Commerce. All applicants will be evaluated based on their ability to meet certain conditions and best satisfy the selection criteria as outlined below. A minimum of 15 and maximum of 25 companies will be selected to participate in the mission from the applicant pool. U.S. companies already doing business in Chile as well as U.S. companies seeking to enter to the Chilean market for the first time may apply.

Fees and Expenses:

After a company or organization has been selected to participate on the mission, a payment to the Department of Commerce of a participation fee is required. The participation fee for the Trade Mission will be $1,100 for a small or medium-sized firm (SME) ¹, and $1,400 for large firms. The fee for each additional firm representative (large firm or SME/trade organization) is $500. Expenses for travel, lodging, meals, and incidentals will be the responsibility of each mission participant. Delegation members will be able to take advantage of U.S. Embassy rates for hotel rooms. The cost to exhibit at the show is $575 per square meter of booth space; this will be paid by the trade mission participant directly to the show organizer.

¹ An SME is defined as a firm with 500 or fewer employees or that otherwise qualifies as a small business under SBA regulations (see http://www.sba.gov/services/contracting_opportunities/sizestandardstopics/index.html). Parent companies, affiliates, and subsidiaries will be considered when determining business size. The dual pricing reflects the Commercial Service's user fee schedule that became effective May 1, 2008 (see http://www.export.gov/newsletter/march2008/initiatives.html for additional information).

Exclusions:

The mission fee does not include any personal travel expenses such as lodging, most meals, local ground transportation, except as stated in the proposed timetable, or air transportation to and from the United States. Business visas are not required. Participants will be expected to register and pay for the IFT Energy 2013 trade show separately from their trade policy mission registration and dues, if they decide to participate in the show following the mission.

Conditions for Participation:

An applicant must submit a completed mission application signed by a company officer, together with supplemental application materials, including adequate information on the company's products and/or services, primary market objectives, and goals for participation. If the Department of Commerce receives an incomplete application, the Department may reject the application, request additional information, or take the lack of information into account when evaluating the applications.

Each applicant must also certify that the products or services it seeks to export through the mission are either produced in the United States, or, if not, marketed under the name of a U.S. firm and has at least 51 percent U.S. content of the value of the finished product or service.

Selection Criteria for Participation: Selection will be based on the following criteria:

• Suitability of the company's products or services to the market;

• Applicant's potential for business in Chile and in the region, including likelihood of exports resulting from the mission;

• Consistency of the applicant's goals and objectives with the stated scope of the mission;

Referrals from political organizations and any documents containing references to partisan political activities (including political contributions) will be removed from an applicant's submission and not considered during the selection process. Diversity of company size and location may also be considered during the review process.

Timeline for Recruitment and Applications:

Mission recruitment will be conducted in an open and public manner, including publication in the Federal Register, posting on the Commerce Department trade mission calendar (http://export.gov/trademissions) and other Internet Web sites (including the Renewable Energy & Energy Efficiency Exporters Portal at www.export.gov/reee), press releases to general and trade media, direct mail, notices by industry trade associations and other multiplier groups, and publicity at industry meetings, symposia, conferences, and trade shows. Recruitment for the mission will begin immediately and conclude no later than March 1, 2013. The U.S. Department of Commerce will review applications and make selection decisions on a rolling basis beginning in November 1, 2013. Applications received after March 1, 2013 will be considered only if space and scheduling permit.

Contacts:

Ryan Mulholland, Renewable Energy Trade Specialist, MAS—Office of Energy and Environmental Industries, Phone: (202) 482-4693, Email: Ryan.Mulholland@trade.gov;

Ellen Lenny-Pessagno, Senior Commercial Officer, U.S. Commercial Service—Santiago, Chile, Tel: (56) 2-330-3610, Email: Ellen.Lenny-Pessagno@trade.gov.

Elnora Moye,
Trade Program Assistant.

[FR Doc. 2012-25647 Filed 10-17-12; 8:45 am]

BILLING CODE 3510-FP-P